DEPARTMENT OF THE INTERIOR

Bureau of Land Management

[NM-210-1430-ET; NMNM 64057]

Notice of Proposed Withdrawal Extension and Opportunity for Public Meeting; New Mexico

AGENCY: Bureau of Land Management, Interior.

ACTION: Notice.

SUMMARY: The Bureau of Land Management proposes to extend the duration of Public Land Order (PLO) No. 6616 for an additional 20-year period. PLO No. 6616 withdrew 16.45 acres of public land in San Juan County, New Mexico from settlement, sale, location or entry under the general land laws, including the United States mining laws, to protect the Bureau of Land Management's Farmington Administrative Site.

DATES: Comments and requests for a public meeting must be received by June 26, 2006.

ADDRESSES: Comments and meeting requests should be sent to the BLM Farmington Assistant Field Manager for Resources, 1235 La Plata Highway, Farmington, New Mexico 87401.

FOR FURTHER INFORMATION CONTACT: Mary Jo Albin, BLM Farmington Field Office, 1235 La Plata Highway, Farmington, New Mexico 87401, 505-599-6332.

SUPPLEMENTARY INFORMATION: The withdrawal created by PLO No. 6616 (51 FR 25205) will expire on July 10, 2006, unless extended. The Bureau of Land Management has filed an application to extend PLO No. 6616 for an additional 20-year period. The withdrawal was made to protect the Farmington Administrative Site on public land described as follows:

New Mexico Principal Meridian

T. 29 N., R. 13 W.,

Sec. 7, lots 5, 11, and 12.

The area described contains 16.45 acres in San Juan County.

The purpose of the proposed extension is to continue the withdrawal created by PLO No. 6616 for an additional 20-year term to protect the Federal investment in the Farmington Administrative Site.

As extended, the withdrawal would not alter the applicability of those public land laws governing the use of land under lease, license, or permit or governing the disposal of the mineral or vegetative resources other than under the mining laws.

The use of a right-of-way or interagency or cooperative agreement would not adequately protect the Federal investment in the Farmington Administrative Site.

There are no suitable alternative sites available since the Farmington Administrative Site is already constructed on the above-described public land.

No water rights would be needed to fulfill the purpose of the requested withdrawal extension.

For a period of 90 days from the date of publication of this notice, all persons who wish to submit comments, suggestions, or objections in connection with the proposed withdrawal extension may present their views in writing to the BLM Farmington Assistant Field Manager for Resources at the address noted above.

Comments, including names and street addresses of respondents, will be available for public review at the BLM Farmington Field Office at the address noted above during regular business hours 7:45 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested persons who desire a public meeting for the purpose of being heard on the proposed withdrawal extension must submit a written request to the BLM Farmington Assistant Field Manager for Resources within 90 days from the date of publication of this notice. If the authorized officer determines that a public meeting will be held, a notice of the time and place will be published in the Federal Register at least 30 days before the scheduled date of the meeting. This withdrawal extension proposal will be processed in accordance with the applicable regulations set forth in 43 CFR 2310.4.

(Authority: 43 CFR 2310.3-1)

Dated: March 16, 2006.
Joel E. Farrell,
Assistant Field Manager for Resources, Farmington Field Office.

[FR Doc. E6-4413 Filed 3-27-06; 8:45 am]

BILLING CODE 4310-VB-P